DEPARTMENT OF TRANSPORTATION

Federal Aviation Administration

14 CFR Part 39

[Docket No. FAA-2006-24091; Directorate Identifier 2006-CE-17-AD; Amendment 39-14665; AD 2006-13-12]

RIN 2120-AA64

Airworthiness Directives; Pilatus Aircraft Ltd. Models PC-6, PC-6-H1, PC-6-H2, PC-6/350, PC-6/350-H1, PC-6/350-H2, PC-6/A, PC-6/A-H1, PC-6/A-H2, PC-6/B-H2, PC-6/B1-H2, PC-6/B2-H2, PC-6/B2-H4, PC-6/C-H2, and PC-6/C1-H2 Airplanes

AGENCY: Federal Aviation Administration (FAA), DOT.

ACTION: Final rule.

SUMMARY: We are adopting a new airworthiness directive (AD) that supersedes AD 98-12-01, which applies to certain Pilatus Aircraft Ltd (Pilatus) Models PC-6, PC-6/A, PC-6/B, and PC-6/C series airplanes equipped with turbo-prop engines. Since we issued AD 98-12-01, the FAA determined the action should also apply to all the models of the PC-6 airplanes listed in the type certificate data sheet of Type Certificate (TC) No. 7A15 that were produced in the United States through a licensing agreement between Pilatus and Fairchild Republic Company (also identified as Fairchild Industries, Fairchild Heli Porter, or Fairchild-Hiller Corporation). In addition, the intent of the applicability of AD 98-12-01 was to apply to all the affected serial numbers of the airplane models listed in TC No. 7A15. This AD retains all the actions of AD 98-12-01, adds those Fairchild Republic Company airplanes to the applicability of this AD, and lists the individual specific airplane models. We are issuing this AD to prevent engine fuel starvation during maximum climb and descent caused by poor fuel tank venting with low fuel levels, which could result in a loss of engine power during critical phases of flight.

DATES: This AD becomes effective on August 7, 2006.

As of July 13, 1998 (63 FR 30370, June 4, 1998), the Director of the Federal Register previously approved the incorporation by reference of Pilatus Service Bulletin No. PC-6-SB-171, dated October 18, 1995, in accordance with 5 U.S.C. 552(a) and 1 CFR part 51.

ADDRESSES: To get the service information identified in this AD, contact Pilatus Aircraft Ltd., Customer Liaison Manager, CH-6371 Stans, Switzerland; telephone: +41 41 619 63 19; facsimile: +41 41 619 6224.

To view the AD docket, go to the Docket Management Facility; U.S. Department of Transportation, 400 Seventh Street, S.W., Nassif Building, Room PL-401, Washington, DC 20590-001 or on the Internet at http://dms.dot.gov. The docket number is FAA-2006-24091; Directorate Identifier 2006-CE-17-AD.

FOR FURTHER INFORMATION CONTACT: Doug Rudolph, Aerospace Engineer, FAA, Small Airplane Directorate, 901 Locust, Room 301, Kansas City, Missouri 64106; telephone: (816) 329-4059; facsimile: (816) 329-4090.

SUPPLEMENTARY INFORMATION:

Discussion

On April 17, 2006, we issued a proposal to amend part 39 of the Federal Aviation Regulations (14 CFR part 39) to include an AD that would apply to all the models of the PC-6 airplanes listed in the type certificate data sheet of TC No. 7A15 that are produced in the United States through a licensing agreement between Pilatus and Fairchild Republic Company (also identified as Fairchild Industries, Fairchild Heli Porter, or Fairchild-Hiller Corporation) airplanes. This proposal was published in the Federal Register as a notice of proposed rulemaking (NPRM) on April 21, 2006 (71 FR 20595). The NPRM proposed to supersede AD 98-12-01, Amendment 39-10558 (63 FR 30370, June 4, 1998), add those Fairchild Republic Company airplanes to the applicability of this proposed AD, and list the individual specific airplane models. The NPRM proposed to retain all the actions of AD 2002-21-08 for modifying the fuel system.

Comments

We provided the public the opportunity to participate in developing this AD. We received one comment in favor of the proposed AD.

Conclusion

We have carefully reviewed the available data and determined that air safety and the public interest require adopting the AD as proposed except for minor editorial corrections. We have determined that these minor corrections:

• Are consistent with the intent that was proposed in the NPRM for correcting the unsafe condition; and

• Do not add any additional burden upon the public than was already proposed in the NPRM.

Costs of Compliance

We estimate that this AD affects 43 airplanes in the U.S. registry.

We estimate the following costs to do the modification of the fuel system to improve venting between the collector tank, the main wing tanks, and the engine:

Labor cost | Parts cost | Total cost per airplane | Total cost on U.S. operators
10 work-hours × $80 per hour = $800 | $614 | $1,414 | $1,414 × 43 = $60,802.

Authority for This Rulemaking

Title 49 of the United States Code specifies the FAA's authority to issue rules on aviation safety. Subtitle I, Section 106 describes the authority of the FAA Administrator. Subtitle VII, Aviation Programs, describes in more detail the scope of the agency's authority.

We are issuing this rulemaking under the authority described in Subtitle VII, Part A, Subpart III, Section 44701, “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this AD.

Regulatory Findings

We have determined that this AD will not have federalism implications under Executive Order 13132. This AD will not have a substantial direct effect on the States, on the relationship between the national government and the States, or on the distribution of power and responsibilities among the various levels of government.

For the reasons discussed above, I certify that this AD:

1. Is not a “significant regulatory action” under Executive Order 12866;

2. Is not a “significant rule” under the DOT Regulatory Policies and Procedures (44 FR 11034, February 26, 1979); and

3. Will not have a significant economic impact, positive or negative, on a substantial number of small entities under the criteria of the Regulatory Flexibility Act.

We prepared a summary of the costs to comply with this AD (and other information as included in the Regulatory Evaluation) and placed it in the AD Docket. You may get a copy of this summary by sending a request to us at the address listed under ADDRESSES. Include “Docket No. FAA-2006-24091; Directorate Identifier 2006-CE-17-AD” in your request.

List of Subjects in 14 CFR Part 39

Air transportation, Aircraft, Aviation safety, Incorporation by reference, Safety.

Adoption of the Amendment

Accordingly, under the authority delegated to me by the Administrator, the Federal Aviation Administration amends part 39 of the Federal Aviation Regulations (14 CFR part 39) as follows:

PART 39—AIRWORTHINESS DIRECTIVES

1. The authority citation for part 39 continues to read as follows:

Authority: 49 U.S.C. 106(g), 40113, 44701.

§ 39.13 [Amended]

2. FAA amends § 39.13 by removing Airworthiness Directive (AD) 98-12-01, Amendment 39-10558 (63 FR 30370, June 4, 1998), and by adding the following new AD:

2006-13-12 Pilatus Aircraft Ltd.: Amendment 39-14665; Docket No. FAA-2006-24091; Directorate Identifier 2006-CE-17-AD.

Effective Date

(a) This AD becomes effective on August 7, 2006.

Affected ADs

(b) This AD supersedes AD 98-12-01, Amendment 39-10558.

Applicability

(c) This AD affects the following Models: PC-6, PC-6-H1, PC-6-H2, PC-6/350, PC-6/350-H1, PC-6/350-H2, PC-6/A, PC-6/A-H1, PC-6/A-H2, PC-6/B-H2, PC-6/B1-H2, PC-6/B2-H2, PC-6/B2-H4, PC-6/C-H2, and PC-6/C1-H2 airplanes that are equipped with turbo-prop engines and certificated in any category:

(1) Group 1 (maintains the actions from AD 98-12-01): All manufacturer serial numbers (MSN) up to and including 915.

(2) Group 2: MSN 2001 through 2092.

Note: These airplanes are also identified as Fairchild Republic Company PC-6 airplanes, Fairchild Heli Porter PC-6 airplanes, or Fairchild-Hiller Corporation PC-6 airplanes.

Unsafe Condition

(d) This AD results from mandatory continuing airworthiness information (MCAI) issued by the airworthiness authority for Switzerland that requires the actions of AD 98-12-01 for the added MSN 2001 through 2092 for all the models of the PC-6 airplanes listed in the type certificate data sheet of Type Certificate (TC) No. 7A15. We are issuing this AD to prevent engine fuel starvation during maximum climb and descent caused by poor fuel tank venting with low fuel levels, which could result in a loss of engine power during critical phases of flight.

Compliance

(e) To address this problem, you must do the following:

Actions | Compliance | Procedures
(1) Modify the fuel system to improve the venting between the collector tank, the main wing tanks, and the engine | (i) For Group 1 Airplanes: Within the next 3 calendar months after July 13, 1998 (the effective date of AD 98-12-01), unless already done (ii) For Group 2 Airplanes: Within the next 3 calendar months after August 7, 2006 (the effective date of this AD, unless already done | Follow Pilatus PC-6 Service Bulletin No. PC-6-SB-171, dated October 18, 1995.
(2) Do not install any collector tank or fuel vent system unless the modification requirements of paragraph (e)(1) are done | For all airplanes: As of August 7, 2006 (the effective date of this AD) | Follow Pilatus PC-6 Service Bulletin No. PC-6-SB-171, dated October 18, 1995.

Alternative Methods of Compliance (AMOCs)

(f) The Manager, Standards Office, ATTN: Doug Rudolph, Aerospace Engineer, FAA, Small Airplane Directorate, 901 Locust, Room 301, Kansas City, Missouri 64106; telephone: (816) 329-4059; facsimile: (816) 329-4090, has the authority to approve AMOCs for this AD, if requested using the procedures found in 14 CFR 39.19.

(g) AMOCs approved for AD 98-12-01 are approved for this AD.

Related Information

(h) Swiss AD Number HB 2005-289, effective date August 23, 2005, also addresses the subject of this AD.

Material Incorporated by Reference

(i) You must do the actions required by this AD following the instructions in Pilatus PC-6 Service Bulletin No. PC-6-SB-171, dated October 18, 1995.

(1) As of July 13, 1998 (63 FR 30370, June 4, 1998), the Director of the Federal Register previously approved the incorporation by reference of Pilatus Service Bulletin No. PC-6-SB-171, dated October 18, 1995, in accordance with 5 U.S.C. 552(a) and 1 CFR part 51.

(2) To get a copy of this service information, contact Pilatus Aircraft Ltd., Customer Liaison Manager, CH-6371 Stans, Switzerland; telephone: +41 41 619 63 19; facsimile: +41 41 619 6224. To review copies of this service information, go to the National Archives and Records Administration (NARA). For information on the availability of this material at NARA, go to: http://www.archives.gov/federal_register/code_of_federal_regulations/ibr_locations.html or call (202) 741-6030. To view the AD docket, go to the Docket Management Facility, U.S. Department of Transportation, 400 Seventh Street, SW., Nassif Building, Room PL-401, Washington, DC 20590-0001 or on the Internet at http://dms.dot.gov. The docket number is FAA-2006-24091; Directorate Identifier 2006-CE-17-AD.

Issued in Kansas City, Missouri, on June 14, 2006.
James E. Jackson,
Acting Manager, Small Airplane Directorate, Aircraft Certification Service.

[FR Doc. 06-5583 Filed 6-21-06; 8:45 am]

BILLING CODE 4910-13-P